DEPARTMENT OF VETERANS AFFAIRS

[OMB Control No. 2900-0821]

Agency Information Collection Activity: Certification Regarding Debarment, Suspension, Ineligibility and Voluntary Exclusion (Documents and Information Required for Specially Adapted Housing Assistive Technology Grant) and Scoring Criteria for SAH Assistive Technology Grants

AGENCY: Veterans Benefits Administration, Department of Veterans Affairs.

ACTION: Notice to withdraw.

SUMMARY: On April 25, 2018, the Department of Veterans Affairs (VA) erroneously posted a consecutive 60-day Federal Register Notice (Certification Regarding Debarment, Suspension, Ineligibility and Voluntary Exclusion (Documents and Information Required for Specially Adapted Housing Assistive Technology Grant) and Scoring Criteria for SAH Assistive Technology Grants) Document Number: 2018-08607; OMB control number: 2900-0821.

FOR FURTHER INFORMATION CONTACT: Cynthia Harvey-Pryor, Enterprise Records Service (005R1B), Department of Veterans Affairs, 810 Vermont Avenue NW, Washington, DC 20420, at 202-461-5870.

SUPPLEMENTARY INFORMATION: VA wishes to inform the public that it is withdrawing FR Document Number: 2018-08607, 83 FR 18132. This was a duplicate 60-day public Notice published in error. The correct and initial 60-day Notice posted March 19, 2018, Volume 83, No. 53, pages 12082-12083, FR Document Number: 2018-05445.

Dated: May 16, 2018.
By direction of the Secretary.
Cynthia D. Harvey-Pryor,
Department Clearance Officer, Office of Quality, Privacy and Risk, Department of Veterans Affairs.

[FR Doc. 2018-10846 Filed 5-21-18; 8:45 am]

BILLING CODE 8320-01-P